DEPARTMENT OF THE INTERIOR

Bureau of Land Management

[NV-060-5101-ER-F311; N-63162]

Notice of Intent To Prepare an Environmental Impact Statement To Analyze the Proposed Falcon to Gonder 345 kV Transmission Line Project and Associated Bureau of Land Management Resource Management Plan Amendments for the Shoshone-Eureka, Elko, and Egan Resource Areas in Elko, Eureka, Lander, and White Pine Counties, NV

AGENCY: Bureau of Land Management.

COOPERATING AGENCIES: Nevada Division of Wildlife and Nevada State Historic Preservation Office.

ACTION: Notice of intent to prepare an environmental impact statement to analyze Sierra Pacific Power Company's (Sierra) Proposed Falcon to Gonder 345 kV Transmission Line Project and consider amendments to existing Bureau of Land Management (BLM) Resource Management Plans (RMP) for the purpose of establishing right-of-way utility corridors in Elko, Eureka, Lander, and White Pine Counties, Nevada.

SUMMARY: Pursuant to Section 102(2)(c) of the National Environmental Policy Act of 1969 (NEPA), 40 Code of Federal Regulations 1500-1508 Council on Environmental Quality Regulations, 43 Code of Federal Regulations 2800, and 43 Code of Federal Regulations 1600 the Bureau of Land Management's Battle Mountain, Elko, and Ely Field Offices (BLM) will be directing the preparation of an Environmental Impact Statement (EIS) to analyze a proposed Falcon to Gonder 345 kV transmission line project and associated BLM RMP amendments. The EIS will be prepared by a third party contractor directed by the BLM. The project will involve public and private lands in Elko, Eureka, Lander, and White Pine Counties, Nevada.

DATES: There will be three public scoping meetings hosted by the BLM to solicit input from the public about the scope of the Falcon to Gonder EIS. The meetings will be held from 7-9 pm at the following locations:

Crescent Valley Town Hall, 5045 Tenabo Avenue, Crescent Valley, Nevada on April 18, 2000, Eureka County Opera House, 31 South Main Street, Eureka, Nevada on April 19, 2000, and BLM Ely Field Office, 702 North Industrial Way, Ely, Nevada on April 20, 2000.

The purpose of these meetings is to identify significant issues to be addressed in the EIS, to determine the scope of issues to be addressed, to identify viable alternatives, and to encourage public participation in the NEPA process. Additional briefings will be considered as appropriate.

Written comments must be post-marked or otherwise delivered by 4:30 p.m. on May 8, 2000. Comments may also be presented at the public scoping meetings.

ADDRESSES: Written comments should be addressed to the Bureau of Land Management, Battle Mountain Field Office, Attention: Katherine Moses, 50 Bastian Road, Battle Mountain, Nevada 89820.

FOR FURTHER INFORMATION CONTACT: Mary Craggett, Battle Mountain BLM, at (775) 635-4168 or Katherine Moses, Battle Mountain BLM, at (775) 635-4092.

SUPPLEMENTARY INFORMATION: On December 17, 1998, Sierra filed a right-of-way application with the BLM for the construction, operation, and maintenance of an approximately 165-185 mile long 345 kV electric transmission line that would connect the Falcon substation (north of Dunphy, Nevada) with the Gonder substation (north of Ely, Nevada). The project would improve electricity import and export capabilities to meet anticipated growth in Sierra's system.

The project, as currently proposed, identifies several route alternatives. The northern portion of any route would head south from the Falcon substation to Highway 50 near Eureka along one of several possible alignments. The southern portion of any route alternatives would then head east along Highway 50 to follow an existing Sierra 230 kV line to the Gonder substation. The current alternatives are identified as the: Crescent Valley A, Crescent Valley B, Pine Valley A, Pine Valley B, and Buck Mountain alternatives. The no action alternative will also be analyzed.

As part of the proposed action, the BLM is also considering amending the RMPs for the Shoshone-Eureka Resource Area, Elko Resource Area, and Egan Resource Area to establish possible right-of-way utility corridors in the area of the preferred alignment. Amendments to the Shoshone-Eureka RMP may also include deletion of a utility planning corridor.

Initially, it was not determined what level of NEPA analysis would be required for the Falcon to Gonder project. In July 1999, the BLM determined that an EIS would be necessary to comply with NEPA. In March 2000, the BLM determined that it would be appropriate to analyze possible RMP amendments concurrently with this project. With these changes in the scope of the project, BLM felt it was important to conduct another round of scoping meetings to address public concerns related to the proposed action.

Previous public involvement opportunities included a 30 day scoping period and three public meetings. These meetings were held on the following dates and locations:

Carlin City Hall Court Room, 101 South 8th Street, Carlin, Nevada on June 15, 1999, Eureka Opera House, 31 South Main Street, Eureka, Nevada on June 16, 1999, and BLM Ely Field Office, 702 North Industrial Way, Ely, Nevada on June 17, 1999.

Public comments from the previous scoping meetings will be compiled and incorporated in the EIS, along with comments from the upcoming scoping meetings.

Dated: March 28, 2000.
Gerald M. Smith,
Field Manager, Battle Mountain Field Office.

[FR Doc. 00-8428 Filed 4-3-00; 10:00 am]

BILLING CODE 4310-HC-P